NATIONAL ARCHIVES AND RECORDS ADMINISTRATION

Founding Fathers Advisory Committee

AGENCY: National Archives and Records Administration.

ACTION: Notice of meeting.

SUMMARY: In accordance with the Federal Advisory Committee Act, as amended (5 U.S.C. Appendix 2), and the Presidential Historical Records Preservation Act of 2008 (Pub. L. 110-404), the National Archives and Records Administration (NARA) announces a meeting of the Founding Fathers Advisory Committee. The Committee will advise the Archivist of the United States on the progress of the Founding Fathers editorial projects funded by the National Historical Publications and Records Commission (NHPRC), the grant making arm of the National Archives. The meeting will discuss the Founders Online Initiative being undertaken through two cooperative agreements between NARA and the University of Virginia, and the workflows and performance goals and targets of the Founding Fathers editorial projects.

DATES: The meeting will be held on Tuesday, February 28, 2012 from 9 a.m. to 2:30 p.m.

ADDRESSES: National Archives and Records Administration, 700 Pennsylvania Avenue NW., Archivist's Board Room, Room 119, Washington, DC 20408.

FOR FURTHER INFORMATION CONTACT: Kathleen Williams, Executive Director of the NHPRC, National Archives Building, 700 Pennsylvania Avenue NW., Room 116, Washington, DC 20408, telephone number: (202) 357-5010, or at kathleen.williams@nara.gov.

SUPPLEMENTARY INFORMATION: This meeting will be open to the public. However, due to space limitations and access procedures, the name, email address, and telephone number of individuals planning to attend must be submitted to the National Archives no later than Thursday, February 21st. NARA staff will provide additional instructions for gaining access to the location of the meeting. Please RSVP to: christine.dunham@nara.gov or (202) 357-5094.

Dated: January 18, 2012.
Mary Ann Hadyka,
Committee Management Officer.

[FR Doc. 2012-2366 Filed 2-2-12; 8:45 am]

BILLING CODE 7515-01-P